FEDERAL ELECTION COMMISSION

[NOTICE 2010-12]

Filing Dates for the Indiana Special Election in the 3rd Congressional District

AGENCY: Federal Election Commission.

ACTION: Notice of filing dates for special election.

SUMMARY: Indiana has scheduled a Special General Election on November 2, 2010, to fill the U.S. House seat in the 3rd Congressional District vacated by Representative Mark E. Souder.

Committees required to file reports in connection with the Special General Election on November 2, 2010, shall file a 12-day Pre-General Report, and a 30-day Post-General Report.

FOR FURTHER INFORMATION CONTACT: Mr. Kevin R. Salley, Information Division, 999 E Street, NW., Washington, DC 20463; Telephone: (202) 694-1100; toll free (800) 424-9530.

SUPPLEMENTARY INFORMATION:

Principal Campaign Committees

All principal campaign committees of candidates who participate in the Indiana Special General Election shall file a 12-day Pre-General Report on October 21, 2010, and a 30-day Post-General Report on December 2, 2010. (See chart below for the closing date for each report).

Note that these reports are in addition to the campaign committee's quarterly filings in October 2010 and January 2011. (See chart below for the closing date for each report).

Unauthorized Committees (PACs and Party Committees)

Political committees filing on a quarterly basis in 2010 are subject to special election reporting if they make previously undisclosed contributions or expenditures in connection with the Indiana Special General Election by the close of books for the applicable report(s). (See chart below for the closing date for each report).

Committees filing monthly that make contributions or expenditures in connection with the Indiana Special General Election will continue to file according to the monthly reporting schedule.

Additional disclosure information in connection with the Indiana Special Election may be found on the FEC Web site at http://www.fec.gov/info/report_dates_2010.shtml.

Disclosure of Lobbyist Bundling Activity

Campaign committees, party committees and Leadership PACs that are otherwise required to file reports in connection with the special elections must simultaneously file FEC Form 3L if they receive two or more bundled contributions from lobbyists/registrants or lobbyist/registrant PACs that aggregate in excess of $16,000 during the special election reporting periods (see charts below for closing date of each period). 11 CFR 104.22(a)(5)(v).

Calendar of Reporting Dates for Indiana Special Election Committees Involved in the Special General Election (11/02/10) Must File:
Report | Close of books¹ | Reg./Cert. & overnight mailing deadline | Filing deadline
Pre-General | 10/13/10 | 10/18/10 | 10/21/10.
Post-General | 11/22/10 | 12/02/10 | 12/02/10.
Year-End | 12/31/10 | 01/31/11 | 01/31/11.
¹ The reporting period always begins the day after the closing date of the last report filed. If the committee is new and has not previously filed a report, the first report must cover all activity that occurred before the committee registered as a political committee with the Commission up through the close of books for the first report due.

Dated: June 11, 2010.
On behalf of the Commission.
Matthew S. Petersen,
Chairman, Federal Election Commission.

[FR Doc. 2010-14568 Filed 6-16-10; 8:45 am]

BILLING CODE 6715-01-P